NUCLEAR REGULATORY COMMISSION

10 CFR Parts 30, 31, 32, 33, 34, 35, 36, 39, 40, 50, 61, 70, 72, and 76

[Docket No. PRM-30-63]

Natural Resources Defense Council; Receipt of Petition for Rulemaking

AGENCY: Nuclear Regulatory Commission.

ACTION: Petition for rulemaking; Notice of receipt.

SUMMARY: The Nuclear Regulatory Commission (NRC) has received and requests public comment on a petition for rulemaking filed by the Natural Resources Defense Council (NRDC). The petition has been docketed by the Commission and has been assigned Docket No. PRM-30-63. The petitioner requests that the NRC amend its regulations to require that an individual report illegal payments to regulators if the individual has knowledge or evidence of the illegal payments. The petitioner requests that an individual who fails to make such a report not be issued a license or allowed to retain a license.

DATES: Submit comments by September 13, 2000. Comments received after this date will be considered if it is practical to do so, but assurance of consideration cannot be given except as to comments received on or before this date.

ADDRESSES: Submit comments to: Secretary, U.S. Nuclear Regulatory Commission, Washington, DC 20555. Attention: Rulemakings and Adjudications staff.

Deliver comments to 11555 Rockville Pike, Rockville, Maryland, between 7:30 am and 4:15 pm on Federal workdays.

For a copy of the petition, write to David L. Meyer, Chief, Rules and Directives Branch, Division of Administrative Services, Office of Administration, U.S. Nuclear Regulatory Commission, Washington, DC 20555-0001.

You may also provide comments via the NRC's interactive rulemaking website at http://ruleforum.llnl.gov. This site provides the capability to upload comments as files (any format), if your web browser supports that function. For information about the interactive rulemaking website, contact Ms. Carol Gallagher, (301) 415-5905 (e-mail: CAG@nrc.gov).

FOR FURTHER INFORMATION CONTACT: David L. Meyer, Office of Administration, U.S. Nuclear Regulatory Commission, Washington, DC 20555. Telephone: 301-415-7162 or Toll-free: 1-800-368-5642 or E-mail: DLM1@NRC.GOV.

SUPPLEMENTARY INFORMATION:

Background

On May 3, 2000, the NRC docketed an April 20, 2000, letter from Thomas B. Cochran, Ph.D., Director, Nuclear Program, Wade Green Chair for Nuclear Policy, NRDC, to the Honorable Richard A. Meserve, Chairman, U.S. Nuclear Regulatory Commission, as a petition for rulemaking under 10 CFR 2.802. In this letter, Dr. Cochran requested that the NRC issue regulations under the provisions of 10 CFR 2.206 that would require an individual to report illegal payments to regulators if the individual has knowledge or evidence of the illegal payments. The petitioner requests that an individual who fails to make such a report not be issued a license or allowed to retain a license. The § 2.206 process is applicable to actions that would suspend, modify, or revoke a license. Requests to add, amend, or remove a regulation are processed under 10 CFR 2.802. Therefore, Dr. Cochran's request was docketed under the procedures applicable to petitions for rulemaking contained in § 2.802.

The Petition

The petitioner references a letter from the NRC to an individual indicating that the NRC will take no further action on its Demand for Information dated July 12, 1999 (EA 99-180). The Demand for Information sought information that would allow the NRC to determine whether it needed to take any action concerning the individual or the licensee for which the individual was president. The matter in question concerned payments made by the individual to an official of an Agreement State regulatory body that was responsible for issuing licensees and overseeing activities related to the individual's license.

The petitioner characterizes this letter as indicating the Commission's apparent satisfaction with mere assurances from the individual that the individual will act with the candor and integrity that is required of NRC licensees despite what the petitioner states are the individual's unlawful actions and failure to notify Federal or State officials of the potentially criminal activities of a regulator.

The petitioner states that the NRC's action does little to quell his concerns about safeguarding the nuclear regulatory process to prevent a recurrence of this type of action. The petitioner asserts that the only reasonable response to the admitted participation of the individual in a blatantly corrupt scheme with a top nuclear official in an Agreement State would have been to bar the individual from any further involvement in NRC-licensed activities for life. The petitioner also states that the least the NRC could have done following what the petitioner characterized as a protracted process would be to provide a fully reasoned justification for its decision to allow the individual to return to his position in running a licensed company.

The Requested Action

The petitioner is concerned that the reinstatement of the individual establishes an extremely dangerous precedent from a regulatory perspective. Therefore, the petitioner requests that the NRC promulgate the following as an NRC regulation:

No licensee (sic) shall be issued to, or retained by, any person who, or any organization whose principal owner, officer, or senior manager, has engaged in, or has knowledge or evidence pertaining to, but fails to promptly report that knowledge or evidence to the NRC, bribery of, or extortion by, any Federal, State or other regulatory official involved in the review or approval of, or continuing oversight over, the license activities, or license applications; or any person who, or any organization whose principal owner, officer, or senior manager, has acted in any manner that flagrantly undermines the integrity of the regulatory process of the NRC or that of an Agreement State.

Dated at Rockville, Maryland, this 23rd day of June, 2000.
For the Nuclear Regulatory Commission.
Annette Vietti-Cook,
Secretary of the Commission.

[FR Doc. 00-16649 Filed 6-29-00; 8:45 am]

BILLING CODE 7590-01-P